DEPARTMENT OF LABOR

Employment and Training Administration

[TA-W-53,947]

James Kenney Vineyards, Grants Pass, Oregon; Notice of Termination of Investigation

Pursuant to section 221 of the Trade Act of 1974, an investigation was initiated on January 6, 2004 in response to a worker petition which was filed by a company official and two additional petitioners on behalf of workers at James Kenney Vineyards, Grants Pass, Oregon. The workers produce wine grapes.

The petitioner has requested that the petition be withdrawn. Consequently, the investigation has been terminated.

Signed at Washington, DC, this 5th day of February, 2004.
Richard Church,
Certifying Officer, Division of Trade Adjustment Assistance.

[FR Doc. 04-3927 Filed 2-23-04; 8:45 am]

BILLING CODE 4510-30-P